DEPARTMENT OF HEALTH AND HUMAN SERVICES

Centers for Disease Control and Prevention

[Request for Application (RFA) 05069]

Administrative and Technical Support for HIV Laboratory Activities in Brazil and Other Lusophone-Speaking Countries; Notice of Intent To Fund Single Eligibility Award

A. Purpose

The Centers for Disease Control and Prevention (CDC) announces the intent to fund fiscal year (FY) 2005 funds for a cooperative agreement program to: (1) provide administrative and technical support for HIV laboratory activities to the Brazilian National AIDS Program; and (2) to coordinate and implement new and ongoing laboratory activities initiated through the South-to-South Regional Collaboration, through which Brazil provides HIV technical assistance to Lusophone-speaking African countries. The purpose of the program is to build the capacity of the Ministry of Health (MOH) of Brazil in HIV laboratory technology for improved diagnosis and treatment of HIV/AIDS, and to provide technical expertise from Brazil to other Lusophone-speaking countries. The Catalog of Federal Domestic Assistance number for this program is 93.067.

B. Eligible Applicant

Applications will only be solicited from the Fundação Universataria Jose Bonifacio (FUJB) [The Jose Bonifacio University Foundation of the Federal University of Rio de Janeiro], a private, non-profit foundation, dedicated to serving the interests of society in the areas of education, research, and extension, insofar as the Federal University of Rio de Janeiro (UFRJ) performs these activities. The FUJB is empowered to manage contracts and agreements drawn up for the support of research projects and services executed by the University, and to assist in the maintenance of University activities in the National and international arenas.

UFRJ has state of the art research/clinical laboratory facilities and has the only laboratory in Brazil with laboratory staff highly-specialized in advanced molecular biology and HIV serology techniques for HIV/AIDS diagnostics. UFRJ has longstanding experience and a tradition of training technicians in these technologies, domestically, regionally (Latin America and the Caribbean), and internationally. UFRJ personnel have been subcontracted for the past year to serve as laboratory consultants in both Mozambique and Angola through the CDC Global AIDS Program (GAP) Brazil's cooperative agreement with Fundação Oswaldo Cruz (FIOCRUZ), as part of the USG South-to-South Collaboration. Increased demand for trainings in these specialized areas has prompted CDC GAP Brazil to develop an agreement with the UFRJ's Foundation to formalize these trainings as USG South-to-South Collaboration activities. As the management body for UFRJ, the Fundação Universataria Jose Bonifacio is the only organization with the capability to administer and manage UFRJ laboratory research and training activities.

C. Funding

Approximately $75,000 is availble in FY 2005 to fund this award. It is expected that the award will begin on or before July 1, 2005, and will be made for a 12-month budget period within a project period of up to 3 years. Funding estimates may change.

D. Where To Obtain Additional Information

For general comments or questions about this announcement, contact: Technical Information Management, CDC Procurement and Grants Office, 2920 Bradywine Road, Atlanta, GA 30341-4146, Telephone: 770-488-2700.

For program technical assistance, contact: William Brady, Project Officer, CDC-AIDS, Unit 3500, APO AA, 34030, Telephone: 55-61-273-4851, E-mail: web0@cdc.gov.

For financial, grants management, or budget assistance, contact: Shirley Wynn, Contract Specialist, CDC Procurement and Grants Office, 2920 Bradywine Road, Atlanta, GA 30341, Telephone: 770-488-1515, E-mail: zbx6@cdc.gov.

Dated: April 26, 2005.
William P. Nicols,
Director, Procurement and Grants Office, Centers for Disease Control and Prevention.

[FR Doc. 05-8754 Filed 5-2-05; 8:45 am]

BILLING CODE 4163-18-M